DEPARTMENT OF HOUSING AND URBAN DEVELOPMENT

[Docket No. FR-5910-N-15]

60-Day Notice of Proposed Information Collection: Disaster Recovery Grant Reporting System

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 21, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone (202) 402-3400 (this is not a toll-free number) or email at Colette.Pollard@hud.gov for a copy of the proposed forms or other available information. Persons with hearing or speech impairments may access this number through TTY by calling the toll-free Federal Relay Service at (800) 877-8339.

FOR FURTHER INFORMATION CONTACT: Jessie Handforth Kome, Acting Director, Office of Block Grant Assistance, Department of Housing and Urban Development, 451 7th Street SW., Washington, DC 20410 at (202) 708-3587. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Disaster Recovery Grant Reporting System.

OMB Approval Number: 2506-0165.

Type of Request: Extension of currently approved collection.

Form Number: SF-424 Application for Federal Assistance.

Description of the need for the information and proposed use: Disaster Recovery Grant Reporting (DRGR) System is a grants management system used by the Office of Community Planning and Development to monitor special appropriation grants under the Community Development Block Grant program. This collection pertains to Community Development Block Grant Disaster Recovery (CDBG-DR), Neighborhood Stabilization Program (NSP), Rural Capacity Building (RCB) for Community Development, and Affordable Housing Capacity Building for Affordable Housing and Community Development Program (Section 4 program) grant appropriations.

The CDBG program is authorized under Title I of the Housing and Community Development Act of 1974, as amended. Following major disasters, Congress appropriates supplemental CDBG funds for disaster recovery. According to Section 104(e)(1) of the Housing and Community Development Act of 1974, HUD is responsible for reviewing grantees' compliance with applicable requirements and their continuing capacity to carry out their programs. Grant funds are made available to states and units of general local government, Indian tribes, and insular areas, unless provided otherwise by supplemental appropriations statute, based on their unmet disaster recovery needs.

The Rural Capacity Building (RCB) Program enhances the capacity and ability of local governments, Indian tribes, housing development organizations, rural Community Development Corporations (CDCs), and rural Community Housing Development Organizations (CHDOs), to carry out community development and affordable housing activities that benefit low- and moderate-income families and persons in rural areas. The original authorizing statute for the RCB program is the Consolidated and Further Continuing Appropriations Act, 2012, Public Law 112-55.

The Capacity Building for Affordable Housing and Community Development Program, also known as the Section 4 program, was originally authorized under Section 4 of the HUD Demonstration Act of 1993 (Pub. L. 103-120, 107 Stat. 1148, 42 U.S.C. 9816 note), as amended. The program enhances the capacity and ability of community development corporations (CDCs) and community housing development organizations (CHDOs) to carry out community development and affordable housing activities that benefit low-income persons.

Respondents: DRGR is used to monitor CDBG-DR, NSP, NSP-TA, RCB and Section 4 grants, as well as several programs that do not fall under the Office of Block Grant Assistance. Separate information collections have been submitted and approved for these programs. CDBG-DR and NSP grant funds are made available to states and units of general local government, Indian tribes, and insular areas, unless provided otherwise by supplemental appropriations statute. NSP-TA grant funds are awarded on a competitive basis and are open to state and local governments, as well as non-profit groups and consortia that may include for-profit entities. RCB grants are competitively awarded to local governments, Indian tribes, housing development organizations, rural Community Development Corporations (CDCs), and rural Community Housing Development Organizations (CHDOs). Section 4 grant funds are directly awarded to grantees designated in the authorizing statute and subsequent appropriations.

Information collection | Number of respondents | Frequency of response | Responses per annum | Burden hour per response | Annual burden hours | Hourly cost per response | Annual cost
CDBG-DR Non-Recurring
Published Action Plan | 7 | 1 | 7 | 40 | 280 | $25 | $7,000
SF 424 | 7 | 1 | 7 | 1 | 7 | 25 | 175
Procurement, Financial Controls and DOB documentation | 7 | 1 | 7 | 6 | 42 | 25 | 1,050
Performance and Financial Projections | 7 | 1 | 7 | 8 | 56 | 25 | 1,400
Grant Agreement (HUD 40092) | 7 | 1 | 7 | 40 | 280 | 25 | 7,000
Grantee's Written Agreements | 7 | 1 | 7 | 1 | 7 | 25 | 175
DRGR Activation, Activity Set-Up and Completion | 7 | 1 | 7 | 6 | 42 | 25 | 1,050
CDBG-DR Recurring
Average Sized Grants Online Quarterly Reporting via DRGR | 20 | 1 | 20 | 1 | 20 | 25 | 500
Large Grants Online Quarterly Reporting via DRGR | 20 | 1 | 20 | 5 | 100 | 25 | 2,500
Average-sized grants online voucher submissions | 20 | 1 | 20 | 20 | 400 | 25 | 10,000
Large-sized grants online voucher submission | 20 | 1 | 20 | 1 | 20 | 25 | 500
CDBG-DR Subtotal | 134 | 1,023 | 31,420 | N/A | 20,821 | 25 | 520,527
NSP Recurring
Online Quarterly Reporting via DRGR | 617 | 4 | 2,468 | 4 | 9,872 | 25 | 246,800
DRGR voucher submissions | 617 | 38 | 23,446 | 0.18 | 4,220 | 25 | 105,507
NSP Subtotal | 617 | 42 | 25,914 | N/A | 14,092 | N/A | 352,307
NSP3-TA Recurring
TA work plan submissions | 12 | 5 | 60 | 8 | 480 | 25 | 12,000
DRGR voucher submissions | 12 | 38 | 456 | 0.18 | 82 | 25 | 2,052
NSP3-TA Subtotal | 12 | 43 | 516 | N/A | 562 | N/A | 14,052
Rural Capacity and Section 4 Non-Recurring
DRGR Activation and Account Setup | 8 | 1 | 8 | 2 | 16 | 35 | 960
Action Plan Setup and Submission | 8 | 1 | 8 | 12 | 96 | 35 | 5,760
Rural Capacity and Section 4 Recurring
Action Plan Revisions | 16 | 2 | 32 | 0.5 | 16 | 35 | 560
Semi-Annual Report Submission | 16 | 2 | 32 | 8 | 256 | 35 | 8,960
Voucher Submission | 16 | 12 | 192 | 0.25 | 48 | 35 | 1,680
RCB and Section 4 Subtotal | 16 | 18 | 272 | N/A | 592 | N/A | 15,120
Total | 779 | 1,126 | 58,122 | N/A | 36,067 | Varies | 902,006

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: September 14, 2016.
Harriet Tregoning,
Principal Assistant Secretary for Community Planning and Development.

[FR Doc. 2016-22719 Filed 9-20-16; 8:45 am]

BILLING CODE 4210-67-P